ENVIRONMENTAL PROTECTION AGENCY

[EPA-HQ-OPP-2010-0248; FRL-8866-4]

Notice of Receipt of Requests for Amendments To Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective September 12, 2011, unless the Agency receives a written withdrawal request on or before September 12, 2011. The Agency will consider a withdrawal request postmarked no later than September 12, 2011. Comments must be received on or before April 15, 2011 for registrations for which the registrant requested a waiver of the 180-day comment period.

Users of these products who desire continued use on crops or sites being deleted should contact the applicable registrant on or before September 12, 2011. Comments must be received on or before April 15, 2011 for registrations for which the registrant requested a waiver of the 180-day comment period.

ADDRESSES: Submit your withdrawal request, identified by docket identification (ID) number EPA-HQ-OPP-2010-0248, by one of the following methods:

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility's telephone number is (703) 305-5805.

FOR FURTHER INFORMATION CONTACT: Christopher Green, Office of Pesticide Programs, Environmental Protection Agency, 1200 Pennsylvania Ave., NW., Washington, DC 20460-0001; telephone number: (703) 347-0367; e-mail address: green.christopher@epa.gov.

SUPPLEMENTARY INFORMATION:

I. General Information

A. Does this action apply to me?

This action is directed to the public in general. Although this action may be of particular interest to persons who produce or use pesticides, the Agency has not attempted to describe all the specific entities that may be affected by this action. If you have any questions regarding the information in this notice, consult the person listed under FOR FURTHER INFORMATION CONTACT.

B. How can I get copies of this document and other related information?

EPA has established a docket for this action under docket ID number EPA-HQ-OPP-2010-0248. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility's telephone number is (703) 305-5805.

II. What action is the agency taking?

This notice announces receipt by the Agency of applications from registrants to delete uses in certain pesticide registrations. These registrations are listed in Table 1 of this unit by registration number, product name, active ingredient, and specific uses deleted. The following requests have a 30-day comment period.

Table 1—Requests for Amendments To Delete Uses in Certain Pesticide Registrations
EPA Registration No. | Product name | Active ingredient | Delete from label
264-330 | TEMIK brand 15G Aldicarb Pesticide | Aldicarb | Use on Coffee.
352-604 | DuPont Tanos | Famoxadone & Cymoxanil | Leaf Petioles subgroup 4B.
8536-12 | Methyl Bromide 99.5% | Methyl Bromide | Soil fumigation uses.
81964-1 | Acephate Technical | Acephate | Residential Turf, home gardens, ornamentals, flowers, shrubs & trees.
81964-2 | Acephate 75% SP | Acephate | Residential Turf, home gardens, ornamentals, flowers, shrubs & trees.
81964-3 | Acephate 90% SP | Acephate | Residential Turf, home gardens, ornamentals, flowers, shrubs & trees.

The following request has a 180-day comment period.

EPA Registration No. | Product name | Active ingredient | Delete from label
63838-4 | BCDMH Tabs | 2,4-Imidazolidnedione, 1-bromo-3 chloro-5,5-dimethyl | Once through cooling water, pool & spa, and food contact pulp & paper uses.

Users of these products who desire continued use on crops or sites being deleted should contact the applicable registrant before September 12, 2011 to discuss withdrawal of the application for amendment. Comments must be received on or before April 15, 2011 for registrations for which the registrant requested a waiver of the 180-day comment period. This 180-day or 30-day period will also permit interested members of the public to intercede with registrants prior to the Agency's approval of the deletion.

Table 2 of this unit includes the names and addresses of record for all registrants of the products listed in Table 1 of this unit, in sequence by EPA company number.

Table 2—Registrants Requesting Amendments To Delete Uses in Certain Pesticide Registrations
EPA Company No. | Company name and address
264 | Bayer CropScience, 2 T.W. Alexander Drive, P.O. Box 12014, Research Triangle Park, NC 27709.
352 | E.I. DuPont De Nemours and Co., Inc., Attn: Manager, U.S.—Registration, DuPont Crop Protection, 1007 Market Street, Wilmington, DE 19898-0001.
8536 | Soil Chemicals Corporation, dba/Cardinal Professional Products, P.O. Box 782, 8770 Hwy. 25, Hollister, CA 95024-0782.
63838 | EnviroTech Chemical Services, Inc., 500 Winmoore Way, Modesto, CA 95358.
81964 | ChemStarr LLC, 21 Hubble, Irvine, CA 92618.

III. What is the agency's authority for taking this action?

Section 6(f)(1) of FIFRA provides that a registrant of a pesticide product may at any time request that any of its pesticide registrations be amended to delete one or more uses. The FIFRA further provides that, before acting on the request, EPA must publish a notice of receipt of any such request in the Federal Register. Thereafter, the Administrator may approve such a request.

IV. Procedures for Withdrawal of Request

Registrants who choose to withdraw a request for use deletion must submit the withdrawal in writing to Christopher Green using the methods in ADDRESSES. The Agency will consider written withdrawal requests postmarked no later than September 12, 2011. Comments must be received on or before April 15, 2011 for registrations for which the registrant requested a waiver of the 180-day comment period.

V. Provisions for Disposition of Existing Stocks

The Agency has authorized the registrants to sell or distribute a product under the previously approved labeling for a period of 18 months after approval of the revision, unless other restrictions have been imposed, as in special review actions.

List of Subjects

Environmental protection, Pesticides and pests.

Dated: March 2, 2011.
Michael Hardy,
Acting, Director, Information Technology and Resources Management Division, Office of Pesticide Programs.

[FR Doc. 2011-5619 Filed 3-15-11; 8:45 am]

BILLING CODE 6560-50-P